OFFICE OF PERSONNEL MANAGEMENT

January 2005 Pay Adjustments

AGENCY: Office of Personnel Management.

ACTION: Notice.

SUMMARY: The President adjusted the rates of basic pay and locality payments for certain categories of Federal employees effective in January 2005. This notice documents those pay adjustments for the public record.

FOR FURTHER INFORMATION CONTACT: Carey Johnston, Center for Pay and Performance Policy, Division for Strategic Human Resources Policy, Office of Personnel Management; (202) 606-2858; FAX (202) 606-0824; or e-mail to pay-performance-policy@opm.gov.

SUPPLEMENTARY INFORMATION: On December 30, 2004, the President signed Executive Order 13368 (70 FR 1147, January 5, 2005), which implemented the January 2005 pay adjustment. The President made these adjustments consistent with Public Law 108-447, December 8, 2004, which authorized an overall average pay increase of 3.5 percent for General Schedule (GS) employees.

Schedule 1 of Executive Order 13368 provides the rates for the 2005 General Schedule and reflects a 2.5 percent across-the-board increase. Executive Order 13368 also includes the percentage amounts of the 2005 locality payments. (See Section 5 and Schedule 9 of Executive Order 13368).

The publication of this notice satisfies the requirement in section 5(b) of Executive Order 13368 that the Office of Personnel Management (OPM) publish appropriate notice of the 2005 locality payments in the Federal Register.

GS employees receive locality payments under 5 U.S.C. 5304. Locality payments apply in the 48 contiguous States and the District of Columbia. In 2005, locality payments ranging from 11.72 percent to 26.39 percent apply to GS employees in 32 locality pay areas. These 2005 locality pay percentages, which replaced the locality pay percentages that were applicable in 2004, became effective on the first day of the first pay period beginning on or after January 1, 2005. An employee's locality-adjusted annual rate of pay is computed by increasing his or her scheduled annual rate of basic pay (as defined in 5 U.S.C. 5302(8) and 5 CFR 531.602) by the applicable locality pay percentage. (See 5 CFR 531.604 and 531.605.)

Executive Order 13368 establishes the new Executive Schedule, which incorporates the 2.5 percent increase required under 5 U.S.C. 5318 (rounded to the nearest $100). By law, Executive Schedule officials are not authorized to receive locality payments.

Executive Order 13368 establishes the range of rates of basic pay for senior executives in the Senior Executive Service (SES), as established pursuant to 5 U.S.C. 5382. The minimum rate of basic pay for the SES may not be less than the minimum rate payable under 5 U.S.C. 5376 for senior-level positions ($107,550 in 2005), and the maximum rate of basic pay may not exceed the rate for level III of the Executive Schedule ($149,200 in 2005). The maximum rate of the SES rate range will increase to level II of the Executive Schedule ($162,100 in 2005) for SES members covered by performance appraisal systems that are certified under 5 U.S.C. 5307(d) as making meaningful distinctions based on relative performance. By law, SES members are not authorized to receive locality payments. Agencies with certified performance appraisal systems in 2005 for senior executives and/or senior-level (SL) and scientific or professional (ST) positions must also apply a higher aggregate limitation on pay—up to the Vice President's salary ($208,100 in 2005).

The Executive order adjusted the rates of basic pay for administrative law judges (ALJs) by 2.5 percent (rounded to the nearest $100). The maximum rate of basic pay for ALJs is set by law at the rate for level IV of the Executive Schedule, which is now $140,300. (See 5 U.S.C. 5372).

The rates of basic pay for members of Contract Appeals Boards are calculated as a percentage of the rate for level IV of the Executive Schedule. (See 5 U.S.C. 5372a.) Therefore, these rates of basic pay were increased by approximately 2.5 percent. Also, the maximum rate of basic pay for SL/ST positions was increased by approximately 2.5 percent (to $140,300) because it is tied to the rate for level IV of the Executive Schedule. The minimum rate of basic pay for SL/ST positions is equal to 120 percent of the minimum rate of basic pay for GS-15 and thus was increased by 2.5 percent (to $107,550). (See 5 U.S.C. 5376).

On December 13, 2004, the President's Pay Agent extended the 2005 locality-based comparability payments to certain categories of non-GS employees. The Governmentwide categories include employees in SL/ST positions, ALJs, and Contract Appeals Board members. The maximum locality rate of pay for these employees is the rate for level III of the Executive Schedule ($149,200 in 2005).

OPM published “Salary Tables for 2005” (OPM Doc. 124-48-6) in June 2005. This publication provides complete salary tables incorporating the 2005 pay adjustments, information on general pay administration matters, locality pay area definitions, Internal Revenue Service withholding tables, and other related information. The rates of pay shown in this publication are the official rates of pay for affected employees and are hereby incorporated as part of this notice. You may purchase copies of “Salary Tables for 2005” from the Government Printing Office (GPO) by calling (202) 512-1800 (outside the DC area: 1-866-512-1800) or FAX (202) 512-2250. You may order copies directly from GPO on the Internet at http://bookstore.gpo.gov. In addition, you can find pay tables on OPM's Internet Web site at http://www.opm.gov/oca/payrates/index.asp.

Office of Personnel Management.
Linda M. Springer,
Director.

[FR Doc. 05-16225 Filed 8-15-05; 8:45 am]

BILLING CODE 6325-39-P